DEPARTMENT OF COMMERCE

Foreign-Trade Zones Board

[B-8-2014]

Foreign-Trade Zone (FTZ) 265—Conroe, TX; Proposed Revision to Production Authority, Bauer Manufacturing Inc., (Pile Drivers, Boring Machinery, and Foundation Construction Equipment), Conroe, TX

The City of Conroe, Texas, grantee of FTZ 265, submitted a notification that proposes a revision to existing production authority approved on behalf of Bauer Manufacturing Inc. (Bauer), located in Conroe, Texas. The notification conforming to the requirements of the regulations of the FTZ Board (15 CFR 400.22) was received on January 9, 2014.

Bauer has authority to produce pile drivers and leads, boring machinery, foundation construction equipment, foundation casings, related parts and sub-assemblies, and tools and accessories for pile drivers and boring machinery within Site 1 of FTZ 265 (see, 78 FR 52759, 8-26-2013). Under the existing authority, Bauer voluntarily admits all foreign-origin steel products subject to antidumping and countervailing duty orders to FTZ 265 in domestic (duty-paid) status (19 CFR 146.43(a)(2)). The specific foreign-origin steel products in question are cold drawn/rolled steel pipes and tubes, threaded pipes, and seamless tubes. In the current request, Bauer seeks to admit all foreign-origin steel products subject to antidumping and countervailing duty orders to the zone in privileged foreign status (19 CFR 146.41) under the standard restriction established in Section 400.14(e)(2) of the FTZ Board's regulations.

Public comment is invited from interested parties. Submissions shall be addressed to the FTZ Board's Executive Secretary at the address below. The closing period for their receipt is March 24, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: January 27, 2014.
Andrew McGilvray,
Executive Secretary.

[FR Doc. 2014-02952 Filed 2-10-14; 8:45 am]

BILLING CODE 3510-DS-P